DEPARTMENT OF HOMELAND SECURITY

[Docket No. DHS-2018-0067]

Privacy Act of 1974; System of Records.

AGENCY: Department of Homeland Security.

ACTION: Notice of a modified system of records.

SUMMARY: In accordance with the Privacy Act of 1974, the Department of Homeland Security (DHS) proposes to modify a current DHS system of records titled “DHS/ALL-007 Accounts Payable System of Records.” This system of records allows DHS to collect and maintain payment records. DHS is updating this system of records notice (SORN) to change the system location and clarify the authorities for which the records are collected. DHS is also expanding the categories of records collected by including invoices, receipts, and bank account numbers. DHS is modifying routine use E and adding routine use F to this SORN to comply with Office of Management and Budget (OMB) Memorandum M-17-12. Routine use L is also being modified to account for sharing payment information with the Department of Treasury to determine an individual's eligibility to receive federal payments. Additionally, this notice includes non-substantive changes to simplify the formatting and text of the previously published notice.

DATES: Submit comments on or before January 22, 2019. This modified system will be effective upon publication. New or modified routine uses will be effective January 22, 2019.

ADDRESSES: You may submit comments, identified by docket number DHS-2018-0067 by one of the following methods:

• Federal e-Rulemaking Portal: http://www.regulations.gov. Follow the instructions for submitting comments.

• Fax: 202-343-4010.

• Mail: Philip S. Kaplan, Chief Privacy Officer, Privacy Office, Department of Homeland Security, Washington, DC 20528-0655.

Instructions: All submissions received must include the agency name and docket number DHS-2018-0067. All comments received will be posted without change to http://www.regulations.gov, including any personal information provided.

Docket: For access to the docket to read background documents or comments received, go to http://www.regulations.gov.

FOR FURTHER INFORMATION CONTACT: For general questions and for privacy issues, please contact: Philip S. Kaplan, Privacy@hq.dhs.gov, (202) 343-1717, Chief Privacy Officer, Privacy Office, Department of Homeland Security, Washington, DC 20528-0655.

SUPPLEMENTARY INFORMATION:

I. Background

DHS is modifying and reissuing DHS/ALL-007 Accounts Payable SORN. DHS uses records covered by this SORN to meet its obligation to manage Departmental funds and ensure that DHS pays its creditors, including DHS employees for travel related reimbursements, and ensures that DHS has an accurate accounting of money it owes. DHS is updating this SORN to provide notice that the location of financial management activities for all DHS Components will be housed at DHS facilities and on DHS information systems, instead of the Department of Interior as was stated in the previous SORN. DHS is also clarifying its authorities to collect accounts payable information.

The Department is expanding the categories of records contained in this SORN to include bank account information, invoices, and receipts, to more accurately reflect the financial records needed by DHS to verify monies owed and track payments to individuals. Further, routine use E is being modified and routine use F is being added to be in conformity with OMB Memorandum M-17-12. Routine Use L is being modified to incorporate information sharing with the Department of Treasury's “Do Not Pay” program, which determines federal eligibility for dispersment of payments by checking death records, federal debt records, and lists of sanctioned individuals. Additionally, this notice includes non-substantive changes to simplify the formatting and text of the previously published notice.

This system of records does not include information to enable travel service providers under contract to the Federal Government to authorize, issue, or account for travel and travel reimbursements provided to individuals on official Federal Government business, which are covered under GSA/GOVT-4 Contracted Travel Services Program, 74 FR 26700 (June 3, 2009), and GSA/GOVT-4 Contracted Travel Services Program, 74 FR 28048 (June 12, 2009).

Consistent with DHS's information sharing mission, information stored in the DHS/ALL-007 Accounts Payable system of records may be shared with other DHS Components that have a need to know the information to carry out their national security, law enforcement, immigration, intelligence, or other homeland security functions. In addition, DHS may share information with appropriate federal, state, local, tribal, territorial, foreign, and international government agencies, members of the public, and other entities consistent with the routine uses set forth in this system of records notice. This updated system will be included in DHS's inventory of record systems.

II. Privacy Act

The Privacy Act embodies fair information practice principles in a statutory framework governing the means by which Federal Government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. Additionally, the Judicial Redress Act (JRA) provides covered persons with a statutory right to make requests for access and amendment to covered records, as defined by the JRA, along with judicial review for denials of such requests. In addition, the JRA prohibits disclosures of covered records, except as otherwise permitted by the Privacy Act.

Below is a description of the DHS/ALL-007 Accounts Payable System of Records. In accordance with 5 U.S.C. 552a(r), DHS has provided a report of this revised system of records to the Office of Management and Budget and to Congress.

SYSTEM NAME AND NUMBER

Department of Homeland Security (DHS)/ALL-007 Accounts Payable.

SECURITY CLASSIFICATION:

Unclassified.

SYSTEM LOCATION:

Records are maintained at several Headquarters locations and in Component offices of DHS, in both Washington, DC and field offices.

SYSTEM MANAGER(S):

The Chief Financial Officer, Financial Management Division, ocfo-fmd@hq.dhs.gov, Department of Homeland Security, Washington, DC 20528.

AUTHORITY FOR MAINTENANCE OF THE SYSTEM:

5 U.S.C. 5701 et seq., Travel, Transportation, and Subsistence; 44 U.S.C. 3101; 19 U.S.C. 1451; 31 U.S.C. 7701(c); the Chief Financial Officers Act of 1990, Public Law 101-576; Digital Accountability and Transparency Act (DATA Act) of 2014, Public Law 113-101, sec. 5; Debt Collection Improvement Act of 1996, Public Law 104-134; and 6 CFR part 11, subpart A—Debt Collection.

PURPOSE(S) OF THE SYSTEM:

The purpose of this system is to collect and maintain information from individuals in connection with reimbursable services provided to DHS to ensure the Department properly pays these individuals. This system will allow DHS to maintain payment records and record monies owed.

CATEGORIES OF INDIVIDUALS COVERED BY THE SYSTEM:

Categories of individuals include any individual or organization that serves as a creditor to DHS, including parties in interest for which reimbursable services are performed and employees for travel related reimbursements.

CATEGORIES OF RECORDS IN THE SYSTEM:

Categories of records in this system includes:

• Individual's name;

• Date of birth;

• Employee identification number;

• Tax identification number, which may be a Social Security number in certain instances;

• Addresses and other general contact information, such as phone numbers, facsimile numbers, or email addresses;

• Importer of record number;

• Records of expenses (bills, refund checks, receipts, out-of-pocket travel expenses);

• Records of payments;

• Disbursement schedules;

• Bank account information;

• Invoices

• Monies owed; and

• Electronic financial institution data.

RECORD SOURCE CATEGORIES:

Records are obtained from DHS, its Components and offices, and individuals submitting supporting documentation for reimbursement.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside DHS as a routine use pursuant to 5 U.S.C. 552a(b)(3) as follows:

A. To the Department of Justice (DOJ), including Offices of the United States Attorneys, or other federal agency conducting litigation or in proceedings before any court, adjudicative, or administrative body when it is relevant or necessary to the litigation and one of the following is a party to the litigation or has an interest in such litigation:

1. DHS or any Component thereof;

2. Any employee or former employee of DHS in his/her official capacity;

3. Any employee or former employee of DHS in his/her individual capacity when DOJ or DHS has agreed to represent the employee; or

4. The United States or any agency thereof.

B. To a congressional office from the record of an individual in response to an inquiry from that congressional office made at the request of the individual to whom the record pertains.

C. To the National Archives and Records Administration or General Services Administration pursuant to records management inspections being conducted under the authority of 44 U.S.C. 2904 and 2906.

D. To an agency or organization for the purpose of performing audit or oversight operations as authorized by law, but only such information as is necessary and relevant to such audit or oversight function.

E. To appropriate agencies, entities, and persons when (1) DHS suspects or has confirmed that there has been a breach of the system of records; (2) DHS has determined that as a result of the suspected or confirmed breach there is a risk of harm to individuals, DHS (including its information systems, programs, and operations), the Federal Government, or national security; and (3) the disclosure made to such agencies, entities, and persons is reasonably necessary to assist in connection with DHS's efforts to respond to the suspected or confirmed breach or to prevent, minimize, or remedy such harm.

F. To another Federal agency or Federal entity, when DHS determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

G. To an appropriate federal, state, tribal, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure.

H. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

I. To unions recognized as exclusive bargaining representatives under the Civil Service Reform Act of 1978, 5 U.S.C. 7111 and 7114.

J. To the Merit Systems Protection Board, arbitrators, the Federal Labors Relations Authority, Equal Employment Opportunity Commission, and other parties responsible for the administration of the Federal Labor-Management Program for the purpose of processing any corrective actions, grievances, or conducting administrative hearings or appeals, or if needed in the performance of other similar authorized duties.

K. To federal agencies that provide financial management services for DHS Components under a cross-servicing agreement for purposes such as budgeting, purchasing, procurement, reimbursement, reporting, and collection functions.

L. To the Department of the Treasury to verify eligibility for payment and to effect disbursement of authorized payments.

M. To the news media and the public, with the approval of the Chief Privacy Officer in consultation with counsel, when there exists a legitimate public interest in the disclosure of the information, when disclosure is necessary to preserve confidence in the integrity of DHS, or when disclosure is necessary to demonstrate the accountability of DHS's officers, employees, or individuals covered by the system, except to the extent the Chief Privacy Officer determines that release of the specific information in the context of a particular case would constitute an unwarranted invasion of personal privacy.

POLICIES AND PRACTICES FOR STORAGE OF RECORDS:

DHS stores records in this system electronically or on paper in secure facilities in a locked drawer behind a locked door. The records may be stored on magnetic disc, tape, and digital media.

POLICIES AND PRACTICES FOR RETRIEVAL OF RECORDS:

Records may be retrieved by an individual's name, tax identification number/Social Security number, employee identification number, or other personal identifier referenced in the categories of records in the system.

POLICIES AND PRACTICES FOR RETENTION AND DISPOSAL OF RECORDS:

DHS destroys records six years after final payment or cancellation, or longer if required for a business use, in accordance with National Archives and Records Administration (NARA) General Records Schedule 1.1, Financial Management and Reporting Records, item 010, and DAA-GRS-2013-0003-0001.

ADMINISTRATIVE, TECHNICAL, AND PHYSICAL SAFEGUARDS:

DHS safeguards records in this system according to applicable rules and policies, including all applicable DHS automated systems security and access policies. DHS has imposed strict controls to minimize the risk of compromising the information that is being stored. Access to the computer system containing the records in this system is limited to those individuals who have a need to know the information for the performance of their official duties and who have appropriate clearances or permissions.

RECORD ACCESS PROCEDURES:

Individuals seeking access to and notification of any record contained in this system of records, or seeking to contest its content, may submit a request in writing to the Chief Privacy Officer and Headquarters or Component's Freedom of Information Act (FOIA) Officer, whose contact information can be found at http://www.dhs.gov/foia under “Contact Information.” If an individual believes more than one Component maintains Privacy Act records concerning him or her, the individual may submit the request to the Chief Privacy Officer and Chief Freedom of Information Act Officer, Department of Homeland Security, Washington, DC 20528-0655. Even if neither the Privacy Act nor the Judicial Redress Act provide a right of access, certain records about you may be available under the Freedom of Information Act.

When an individual is seeking records about himself or herself from this system of records or any other Departmental system of records, the individual's request must conform with the Privacy Act regulations set forth in 6 CFR part 5. The individual must first verify his or her identity, meaning that the individual must provide his or her full name, current address, and date and place of birth. The individual must sign the request, and the individual's signature must either be notarized or submitted under 28 U.S.C. 1746, a law that permits statements to be made under penalty of perjury as a substitute for notarization. While no specific form is required, an individual may obtain forms for this purpose from the Chief Privacy Officer and Chief Freedom of Information Act Officer, http://www.dhs.gov/foia or 1-866-431-0486. In addition, the individual should:

• Explain why he or she believes the Department would have information on him or her;

• Identify which Component(s) of the Department the individual believes may have the information about him or her;

• Specify when the individual believes the records would have been created; and

• Provide any other information that will help the FOIA staff determine which DHS Component agency may have responsive records.

If an individual's request is seeking records pertaining to another living individual, the person seeking the records must include a statement from the subject individual certifying his or her agreement for the requestor to access his or her records.

Without the above information, the Component(s) may not be able to conduct an effective search, and the individual's request may be denied due to lack of specificity or lack of compliance with applicable regulations.

CONTESTING RECORD PROCEDURES:

For records covered by the Privacy Act or covered JRA records, individuals may make a request for amendment or correction of a record of the Department about the individual by writing directly to the Department component that maintains the record, unless the record is not subject to amendment or correction. The request should identify each particular record in question, state the amendment or correction desired, and state why the individual believes that the record is not accurate, relevant, timely, or complete. The individual may submit any documentation that would be helpful. If the individual believes that the same record is in more than one system of records, the request should state that and be addressed to each component that maintains a system of records containing the record.

NOTIFICATION PROCEDURES:

See “Record Access Procedures.”

EXEMPTIONS PROMULGATED FOR THE SYSTEM:

None.

HISTORY:

80 FR 58289 (September 28, 2015); 73 FR 61885 (October 17, 2008).

Philip S. Kaplan,
Chief Privacy Officer, Department of Homeland Security.

[FR Doc. 2018-27606 Filed 12-20-18; 8:45 am]

BILLING CODE 9110-9B-P